ENVIRONMENTAL PROTECTION AGENCY

40 CFR Part 52

[EPA-R06-OAR-2012-0100; FRL-9909-51-Region 6]

Approval and Promulgation of Implementation Plans; Texas; Reasonably Available Control Technology for the 1997 8-Hour Ozone National Ambient Air Quality Standard

AGENCY: Environmental Protection Agency (EPA).

ACTION: Final rule.

SUMMARY: The Environmental Protection Agency (EPA) is finalizing its proposal to approve revisions to the Texas State Implementation Plan (SIP) for the Houston/Galveston/Brazoria (HGB) 1997 8-Hour ozone nonattainment Area (Area). The HGB Area consists of Brazoria, Chambers, Fort Bend, Galveston, Harris, Liberty, Montgomery and Waller counties. Specifically, we are finalizing our proposed approval of portions of two revisions to the Texas SIP submitted by the Texas Commission on Environmental Quality (TCEQ) as meeting certain Reasonably Available Control Technology (RACT) requirements for Volatile Organic Compounds (VOC) in the HGB Area. This action is in accordance with section 110 of the federal Clean Air Act (the Act, CAA).

DATES: This rule will be effective on May 15, 2014.

ADDRESSES: The EPA has established a docket for this action under Docket ID No. EPA-R06-OAR-2012-0100. All documents in the docket are listed on the www.regulations.gov Web site. Although listed in the index, some information is not publicly available, e.g., Confidential Business Information or other information whose disclosure is restricted by statute. Certain other material, such as copyrighted material, is not placed on the Internet and will be publicly available only in hard copy form. Publicly available docket materials are available either electronically through www.regulations.gov or in hard copy at the Air Planning Section (6PD-L), Environmental Protection Agency, 1445 Ross Avenue, Suite 700, Dallas, Texas 75202-2733. The file will be made available by appointment for public inspection in the Region 6 FOIA Review Room between the hours of 8:30 a.m. and 4:30 p.m. weekdays except for legal holidays. Contact the person listed in the FOR FURTHER INFORMATION CONTACT paragraph below to make an appointment.

FOR FURTHER INFORMATION CONTACT: Mr. Alan Shar (6PD-L), telephone (214) 665-2164, email shar.alan@epa.gov.

SUPPLEMENTARY INFORMATION: Throughout this document “we,” “us,” and “our” refer to EPA.

Outline

I. Background

A. What actions are we finalizing?

1. The June 13, 2007 Submittal

2. The April 6, 2010 Submittal

B. When did the public comment period expire?

II. Evaluation

A. What are the public comments and EPA's response to them?

B. What is TCEQ's approach and analysis to RACT?

C. What source categories are we addressing in this action?

D. Are there any negative declarations associated with the VOC source categories in the HGB Area?

E. Is Texas' approach to RACT determination for VOC sources based on the June 13, 2007 and April 6, 2010 submittals acceptable?

III. Final Action

IV. Statutory and Executive Order Reviews

I. Background

A. What actions are we finalizing?

We are finalizing our January 9, 2014 (79 FR 1612) proposal to approve portions of revisions to the Texas SIP submitted to EPA with two separate letters dated June 13, 2007 and April 6, 2010 from TCEQ. These two separate submittals are described below.

1. The June 13, 2007 Submittal

The June 13, 2007 submittal concerns revisions to 30 TAC, Chapter 115 Control of Air Pollution from Volatile Organic Compounds. In addition, the June 13, 2007 submittal included an analysis intended to demonstrate RACT was being implemented in the HGB Area as required by the CAA (Appendix D of the submittal). We approved selected revisions as meeting RACT under the 8-hour ozone NAAQS for some, but not all of the submitted industry source categories in the HGB Area, on April 2, 2013 at 78 FR 19599. In our January 9, 2014 (79 FR 1612) proposal, we addressed additional source categories covered in this SIP submittal.

2. The April 6, 2010 Submittal

In conjunction with the June 13, 2007 submittal, we are also finalizing our proposal to approve a part of the April 6, 2010 revision to the Texas SIP for VOC RACT purposes. Specifically, we find that Texas has met certain RACT requirements under section 182(b). For more information on RACT evaluation for the HGB Area see section B of the January 9, 2014 (79 FR 1612) proposal.

B. When did the public comment period expire?

The public comment period for the January 9, 2014 (79 FR 1612) proposal expired on February 10, 2014.

II. Evaluation

A. What are the public comments and EPA's response to them?

Comment: An individual commented that pollution has to stop at the source, there should be zero waste, and the polluter has to pay.

Response: EPA is not aware of a reasonably available and technologically feasible method to achieve zero waste for the source categories identified in Table 1 of the January 9, 2014 (79 FR 1612) proposal. The commenter did not provide any information to this effect, and no contact information was made available by the commenter in order for EPA to pursue an inquiry regarding existence of such control technology. Furthermore, section 113 of the CAA provides for the enforcement and compliance of applicable emission requirements with which a source will need to comply.

No change to the proposal is made as a result of this comment.

B. What is TCEQ's approach and analysis to RACT?

As stated in the January 9, 2014 (79 FR 1612) proposal, under sections 182(b)(2)(A) and (B) states must ensure RACT is in place for each source category for which EPA issued a Control Techniques Guidelines (CTG), and for any major source not covered by a CTG. As a part of its June 13, 2007 submittal, TCEQ conducted a RACT analysis to demonstrate that the RACT requirements for CTG sources in the HGB 8-Hour ozone nonattainment Area have been fulfilled. The TCEQ revised and supplemented this analysis in its April 6, 2010 submittal. The TCEQ conducted its analysis by: (1) Identifying all categories of CTG and major non-CTG sources of VOC emissions within the HGB Area; (2) Listing the state regulation that implements or exceeds RACT requirements for that CTG or non-CTG category; (3) Detailing the basis for concluding that these regulations fulfill RACT through comparison with established RACT requirements described in the CTG guidance documents and rules developed by other state and local agencies; and (4) Submitting negative declarations when there are no CTG or major Non-CTG sources of VOC emissions within the HGB Area.

C. What source categories are we addressing in this action?

Table 1 of the January 9, 2014 (79 FR 1612) proposal contained a list of VOC source categories and their corresponding sections of 30 TAC Chapter 115 to fulfill the applicable RACT requirements under section 182(b) of the Act.

Table 1—CTG Source Categories and Their Corresponding Texas VOC RACT Rules
Source category in HGB area | CTG reference document | Chapter 115, fulfilling RACT
Aerospace | Control of Volatile Organic Compound Emissions from Coating Operations at Aerospace Manufacturing and Rework Operations | §§ 115.420-429.
Surface coating for insulation of magnets | Control of Volatile Organic Emissions from Existing Stationary Sources—Volume IV: Surface Coating of Insulation of Magnet Wire | §§ 115.420-429.
Surface coating of coils | Surface Coating of Cans, Coils, Paper, Fabrics, Automobiles, and Light-Duty Trucks | §§ 115.420-429.
Surface coating of fabrics | Surface Coating of Cans, Coils, Paper, Fabrics, Automobiles, and Light-Duty Trucks | §§ 115.420-429.
Surface coating of cans | Surface Coating of Cans, Coils, Paper, Fabrics, Automobiles, and Light-Duty Trucks | §§ 115.420-429.
Use of cutback asphalt | Control of Volatile Organic Emissions from Use of Cutback Asphalt | §§ 115.510-519.
Wood furniture | Control of Volatile Organic Compound Emissions from Wood Furniture Manufacturing Operations | §§ 115.420-429.
Large petroleum dry cleaners | Control of Volatile Organic Compound Emissions from Large Petroleum Dry Cleaners | §§ 115.552-559.

D. Are there any negative declarations associated with the VOC source categories in the HGB Area?

Yes, Texas has declared that there are no Fiberglass Boat Manufacturing Materials Operations, Leather Tanning and Finishing Operations, Surface Coating for Flat Wood Paneling Operations, Letterpress Printing, Automobile and Light-Duty Truck Assembly Coating Operations, and Vegetable Oil Manufacturing Operations that are major sources in the HGB Area. Previously, we have approved a negative declaration for the Rubber Tire Manufacturing Operations in the HGB Area. As such, TCEQ does not have to adopt VOC regulations relevant to these source categories at this time for the HGB Area.

E. Is Texas' approach to RACT determination for VOC sources based on the June 13, 2007 and April 6, 2010 submittals acceptable?

Yes. The purpose of 30 TAC Chapter 115 rules for the HGB Area is to establish reasonable controls on the emissions of ozone precursors. Texas has reviewed its VOC rules and has certified that its rules satisfy RACT requirements. We find the Texas RACT determination to be acceptable. Based upon our evaluation, we find that Texas has RACT-level controls in place for all required sources for the HGB Area under the 1997 8-Hour ozone standard.

III. Final Action

Today, we are approving the proposal to find that with respect to the VOC source categories identified in Table 1 of the January 9, 2014 (79 FR 1612) proposal, Texas has RACT-level controls in place for the HGB Area under the 1997 8-Hour ozone standard. We are also approving the negative declarations as explained in section II(D) of this action. The EPA had previously approved RACT for VOC and NOX into Texas' SIP under the 1-Hour ozone standard.

IV. Statutory and Executive Order Reviews

Under the Clean Air Act, the Administrator is required to approve a SIP submission that complies with the provisions of the Act and applicable Federal regulations. If a portion of the plan revision meets all the applicable requirements of this chapter and Federal regulations, the Administrator may approve the plan revision in part. 42 U.S.C. 7410(k); 40 CFR 52.02(a). Thus, in reviewing SIP submissions, EPA's role is to approve state choices that meet the criteria of the Act, and to disapprove state choices that do not meet the criteria of the Act. Accordingly, this proposed action approves state law as meeting Federal requirements and does not impose additional requirements beyond those imposed by state law. For that reason, this proposed action:

• Is not a “significant regulatory action” subject to review by the Office of Management and Budget under Executive Order 12866 (58 FR 51735, October 4, 1993);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of section 12(d) of the National Technology Transfer and Advancement Act of 1995 (15 U.S.C. 272 note) because application of those requirements would be inconsistent with the Clean Air Act;

• does not provide EPA with the discretionary authority to address, as appropriate, disproportionate human health or environmental effects, using practicable and legally permissible methods, under Executive Order 12898 (59 FR 7629, February 16, 1994); and

• this rule does not have tribal implications as specified by Executive Order 13175 (65 FR 67249, November 9, 2000), because the SIP is not approved to apply in Indian country located in the state, and EPA notes that it will not impose substantial direct costs on tribal governments or preempt tribal law.

Authority: 42 U.S.C. 7401 et seq.

List of Subjects in 40 CFR Part 52

Environmental protection, Air pollution control, Hydrocarbons, Incorporation by reference, Intergovernmental relations, Reporting and recordkeeping requirements, Volatile organic compounds.

Dated: April 1, 2014.
Samuel Coleman,
Acting Regional Administrator, Region 6.

Part 52, chapter I, title 40 of the Code of Federal Regulations is amended as follows:

PART 52—[AMENDED]

1. The authority citation for part 52 continues to read as follows:

Authority: 42 U.S.C. 7401 et seq.

Subpart SS—Texas

2. In Section 52.2270, the second table in paragraph (e) entitled “EPA-Approved Nonregulatory Provisions and Quasi-Regulatory Measures in the Texas SIP” is amended by adding two entries at the end to read as follows:

§ 52.2270 Identification of plan.

* * * * *

(e) * * *

EPA-Approved Nonregulatory Provisions and Quasi-Regulatory Measures in the Texas SIP
Name of SIP provision | Applicable geographic or nonattainment area | State submittal/effective date | EPA Approval date | Comments
| * * * * * * *
VOC RACT negative declaration for Fiberglass Boat Manufacturing Materials, Leather Tanning and Finishing, Surface Coating for Flat Wood Paneling, Letterpress Printing, Automobile and Light-Duty Truck Assembly Coating, Rubber Tire Manufacturing, and Vegetable Oil Manufacturing Operations | Brazoria, Chambers, Fort Bend, Galveston, Harris, Liberty, Montgomery and Waller Counties, TX | April 6, 2010. |  |
VOC RACT finding for the 1997 8-hour ozone NAAQS, except for the 2006-2010 EPA-issued CTG series | Brazoria, Chambers, Fort Bend, Galveston, Harris, Liberty, Montgomery and Waller Counties, TX | April 6, 2010 | April 15, 2014 [Insert FR page number where document begins] |

[FR Doc. 2014-08331 Filed 4-14-14; 8:45 am]

BILLING CODE 6560-50-P